DEPARTMENT OF TRANSPORTATION

Office of the Secretary

[Docket No. OST-95-177]

Disclosure of Change-of-Gauge Services

AGENCY: Office of the Secretary, DOT.

ACTION: Notice of Request for Extension of a Currently Approved Information Collection.

SUMMARY: In accordance with the Paperwork Reduction Act of 1995 (44 U.S.C. Chapter 35, as amended), this notice announces the Department of Transportation's (DOT) intention to request the extension of a previously approved collection.

DATES: Comments on this notice must be received September 23, 2002.

ADDRESSES: Attention Competition and Policy Analysis Division (X-55), Office of Aviation Analysis, U.S. Department of Transportation, Room PL-401, Docket No. OST-95-177 (formerly 47546), 400 Seventh Street, SW., Washington, DC 20590. Three copies are requested, but not required.

FOR FURTHER INFORMATION CONTACT: Jack Schmidt, Competition and Policy Analysis Division (X-55), Office of Aviation Analysis, Office of the Secretary, U.S. Department of Transportation, 400 Seventh St., SW., Washington, DC 20590, (202) 366-5903.

SUPPLEMENTARY INFORMATION: Title: Disclosure of Change-of-Gauge Services.

OMB Control Number: 2105-0538.

Type of Request: Extension of a previously approved collection.

Affected Public: All U.S. air carriers, foreign air carriers, computer reservations systems, travel agents doing business in the United States and the traveling public.

Comments are invited on: (a) Whether this proposed collection of information is necessary for the proper performance of the functions of the agency, including whether the information will have practical utility; (b) the accuracy of the agency's estimate of burden of the proposed collection of information; (c) ways to enhance the quality, utility, and clarity of the information to be collected; and (d) ways to minimize the burden of the collection of information on the respondents, including through the use of automated techniques or other forms of information technology. All responses to this notice will be summarized and included in the request for OMB approval. All comments will also become a matter of public record.

Issued in Washington, DC, on August 19, 2002.
Michael Robinson,
Program Analyst.

[FR Doc. 02-21467 Filed 8-21-02; 8:45 am]

BILLING CODE 4910-62-P